DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date:

September 19, 2000—9 a.m.-5:30 p.m. EDT.

September 20, 2000—10 a.m.-3:30 p.m. EDT.

Place: Quality Hotel Courthouse Plaza, 1200 N. Courthouse Road, Arlington, VA 22201, (888) 987-2555.

Status: Open.

Purpose: At this meeting the Committee will hear presentations and hold discussions on several health data policy topics. On the first day there will be an update from HHS on the implementation of the administrative simplification provisions of the Health Insurance Portability and Accountability Act of 1996 (HIPAA). The Committee will also discuss the outcome of the August Executive Subcommittee Retreat relating to work planning, organization, and future directions. Presentations are scheduled on two quality of care data issues: the National Quality Report Card Strategy, and the Performance Measurement Coordinating Council. The first day will end with subcommittee breakout sessions. On day two the Committee will be briefed on an Institute of Medicine report on confidentiality practices of institutional review boards relating to health services research, and will discuss the World Health Organization's report on improving the performance of health systems. There will also be an update from the Interagency Working Group on summary health measures. The meeting will close with reports from Subcommittees and Working Groups.

Contact Person for More Information: Substantive program information as well as summaries of meetings and a roster of committee members may be obtained from Marjorie S. Greenberg, Executive Secretary, NCVHS, National Center for Health Statistics, Centers for Disease Control and Prevention, Room 1110, Presidential Building, 6525 Belcrest Road, Hyattsville, Maryland 20782, telephone (301) 458-4245. Information also is available on the NCVHS home page of the HHS website http://www.ncvhs.hhs.gov/, where further information will be posted when available.

Dated: August 25, 2000.
James Scanlon,
Director, Division of Data Policy, Office of the Assistant Secretary for Planning and Evaluation.

[FR Doc. 00-22403 Filed 8-31-00; 8:45 am]

BILLING CODE 4151-05-M